DEPARTMENT OF AGRICULTURE

Forest Service

Secure Rural Schools Resource Advisory Committees

AGENCY: Forest Service, USDA.

ACTION: Call for Nominations.

SUMMARY: The United States Department of Agriculture (USDA) is seeking nominations for the Secure Rural Schools Resource Advisory Committees (SRS RACs) pursuant the Secure Rural Schools and Community Self-Determination Act (Pub. L. 110-343) (the Act) and the Federal Advisory Committee Act (FACA) (5 U.S.C., App. 2). Additional information on the SRS RACs can be found by visiting SRS RACs Web site at: http://www.fs.usda.gov/pts/.

DATES: Written nominations must be received by June 27, 2016. Nominations must contain a completed application packet that includes the nominee's name, resume, and completed Form AD-755 (Advisory Committee or Research and Promotion Background Information). The package must be sent to the address below.

ADDRESSES: See SUPPLEMENTARY INFORMATION under Nomination and Application Information for the address of the SRS RAC Regional Coordinators accepting nominations.

FOR FURTHER INFORMATION CONTACT: David Bergendorf, Senior Program Specialist, Forest Service Secure Rural Schools Program, by telephone at (202) 205-1468, or by email at dwbergendorf@fs.fed.us. Individuals who use telecommunication devices for the deaf (TDD) may call the Federal Information Relay Service (FIRS) at 1-800-877-8339 between 8 a.m. and 5 p.m., Eastern Standard Time, Monday through Friday.

SUPPLEMENTARY INFORMATION:

Background

In accordance with the provisions of FACA, the Secretary of Agriculture is seeking nominations for the purpose of improving collaborative relationships among people who use and care for National Forests and provide advice and recommendations to the Forest Service concerning projects and funding consistent with Title II of the Act. The duties of SRS RACs include monitoring projects, advising the Secretary on the progress and results of monitoring efforts, and making recommendations to the Forest Service for any appropriate changes or adjustments to the projects being monitored by the SRS RACs.

SRS RACs Membership

The SRS RACs will be comprised of 15 members approved by the Secretary of Agriculture. SRS RACs membership will be fairly balanced in terms of the points of view represented and functions to be performed. The SRS RACs members will serve 4-year terms. The SRS RACs shall include representation from the following interest areas:

(1) Five persons that—

(a) represent organized labor or non-timber forest product harvester groups;

(b) represent developed outdoor recreation, off-highway vehicle users, or commercial recreation activities;

(c) represent energy and mineral development, or commercial or recreational fishing interests;

(d) represent the commercial timber industry; or

(e) hold Federal grazing or other land use permits, or represent nonindustrial private forest land owners, within the area for which the committee is organized.

(2) Five persons that represent—

(a) nationally recognized environmental organizations;

(b) regionally or locally recognized environmental organizations;

(c) dispersed recreational activities;

(d) archaeological and historical interests; or

(e) nationally or regionally recognized wild horse and burro interest groups, wildlife or hunting organizations, or watershed associations.

(3) Five persons that—

(a) hold State elected Office (or designee);

(b) hold county or local elected office;

(c) represent American Indian tribes within or adjacent to the area for which the committee is organized;

(d) are school officials or teachers; or

(e) represent the affected public at large.

In the event that a vacancy arises, the Designated Federal Officer (DFO) may fill the vacancy with a replacement member appointed by the Secretary, if an appropriate replacement member is available. In accordance with the Act, members of the SRS RAC shall serve without compensation. SRS RAC members and replacements may be allowed travel expenses and per diem for attendance at committee meetings, subject to approval of the DFO responsible for administrative support to the SRS RAC.

Nomination and Application Information

The appointment of members to the SRS RACs will be made by the Secretary of Agriculture. The public is invited to submit nominations for membership on the SRS RACs, either as a self-nomination or a nomination of any qualified and interested person. Any individual or organization may nominate one or more qualified persons to represent the interest areas listed above. To be considered for membership, nominees must:

1. Be a resident of the State in which the SRS RAC has jurisdiction;

2. Identify what interest group they would represent and how they are qualified to represent that interest group;

3. Provide a cover letter stating why they want to serve on the SRS RAC and what they can contribute;

4. Provide a resume showing their past experience in working successfully as part of a group working on forest management activities; and

5. Complete Form AD-755, Advisory Committee or Research and Promotion Background Information. The Form AD-755 may be obtained from the Regional Coordinators listed below or from the following SRS RACs Web site: http://www.fs.usda.gov/main/pts/specialprojects/racs. All nominations will be vetted by the Agency.

Nominations and completed applications for SRS RACs should be sent to the appropriate Forest Service Regional Offices listed below:

Northern Regional Office—Region I

Central Montana RAC, Flathead RAC, Gallatin RAC, Idaho Panhandle RAC, Lincoln RAC, Mineral County RAC, Missoula RAC, Missouri River RAC, North Central Idaho RAC, Ravalli RAC, Sanders RAC, Southern Montana RAC, Southwest Montana RAC, Tri-County RAC

Jerry Drury, Northern Regional Coordinator (Montana), Forest Service, Federal Building, 200 East Broadway, Missoula, Montana 59807-7669, (406) 329-3149.

Carol McKenzie, Northern Regional Coordinator (Idaho), Forest Service, 3815 Schreiber Way, Coeur d'Alene, Idaho 83815-8363, (208) 765-7380.

Rocky Mountain Regional Office—Region II

Bighorn RAC, Black Hills RAC, Grand Mesa Uncompahgre Gunnison (GMUG) RAC, Medicine Bow-Routt RAC, Pike-San Isabel RAC, Saguache RAC, San Juan RAC, Shoshone RAC, Upper Rio Grande RAC

Jace Ratzlaff, Rocky Mountain Regional Coordinator, Forest Service, 740 Simms Street, Golden, Colorado 80401, (719) 469-1254.

Southwestern Regional Office—Region III

Coconino County RAC, Eastern Arizona RAC, Northern New Mexico RAC, Southern Arizona RAC, Southern New Mexico RAC, Yavapai RAC

Mark Chavez, Southwestern Regional Coordinator, Forest Service, 333 Broadway SE., Albuquerque, New Mexico 87102, (505) 842-3393.

Intermountain Regional Office—Region IV

Ashley RAC, Bridger-Teton RAC, Central Idaho RAC, Dixie RAC, Eastern Idaho RAC, Elko RAC, Fishlake RAC, Humboldt (NV) RAC, Lyon-Mineral RAC, Manti-La Sal RAC, South Central Idaho RAC, Southwest Idaho RAC, Uinta-Wasatch Cache RAC, White Pine-Nye RAC

Andy Brunelle, Intermountain Regional Coordinator (Idaho/Utah), Forest Service, Federal Building, 324 25th Street, Ogden, Utah 84401, (208) 344-1770.

Cheva Gabor, Intermountain Regional Coordinator (Nevada), Forest Service, 35 College Drive, South Lake Tahoe, California 96150, (530) 543-2600.

Pacific Southwest Regional Office—Region V

Alpine County RAC, Amador County RAC, Butte County RAC, Del Norte County RAC, El Dorado County RAC, Fresno County RAC, Glenn and Colusa Counties RAC, Humboldt County RAC, Kern and Tulare Counties RAC, Lake County RAC, Lassen County RAC, Madera County RAC, Mendocino County RAC, Modoc County RAC, Nevada and Placer Counties RAC, Plumas County RAC, Shasta County RAC, Sierra County RAC, Siskiyou County RAC, Tehama RAC, Trinity County RAC, Tuolumne and Mariposa Counties RAC

Marty Dumpis, Pacific Southwest Regional Coordinator, Forest Service, 1323 Club Drive, Vallejo, California 94592, (909) 599-1267.

Pacific Northwest Regional Office—VI

Columbia County RAC, Colville RAC, Deschutes and Ochoco RAC, Fremont and Winema RAC, Hood and Willamette RAC, North Gifford Pinchot RAC, North Mt. Baker-Snoqualmie RAC, Northeast Oregon Forests RAC, Olympic Peninsula RAC, Rogue and Umpqua RAC, Siskiyou (OR) RAC, Siuslaw RAC, Snohomish County RAC, South Gifford Pinchot RAC, South Mt. Baker-Snoqualmie RAC, Southeast Washington Forest RAC, Wenatchee-Okanogan RAC

Amber Sprinkle, Pacific Northwest Regional Office, Forest Service, 595 Northwest Industrial Way, Estacada, Oregon 97023, (503) 808-2242.

Glen Sachet, Pacific Northwest Regional Office, Forest Service, 1220 Southwest 3rd Avenue, Portland, Oregon 97204, (503) 545-6083.

Kathy Anderson, Pacific Northwest Regional Office, Forest Service, 1220 Southwest 3rd Avenue, Portland, Oregon 97204, (503) 545-6083.

Southern Regional Office—Region VIII

Alabama RAC, Cherokee RAC, Daniel Boone RAC, Davy Crockett RAC, Delta-Bienville RAC, DeSoto RAC, Florida National Forests RAC, Francis Marion-Sumter RAC, Holly Springs-Tombigbee RAC, Kisatchie RAC, Ozark-Ouachita RAC, Sabine-Angelina RAC, Southwest Mississippi RAC, Virginia RAC

Steve Bekkerus, Southern Regional Coordinator, Forest Service, 1720 Peachtree Road, Northwest, Atlanta, Georgia 30309, (404) 347-7240.

Eastern Regional Office—Region IX

Allegheny RAC, Chequamegon RAC, Chippewa National Forest RAC, Eleven Point RAC, Gogebic RAC, Hiawatha East RAC, Hiawatha West RAC, Huron-Manistee RAC, Nicolet RAC, Ontonagon RAC, Superior RAC, West Virginia RAC

David Scozzafave, Eastern Regional Coordinator, Forest Service, 626 East Wisconsin Avenue, Milwaukee, Wisconsin 53202, (414) 297-3602.

Alaska Regional Office—Region X

Juneau RAC, Kenai Peninsula-Anchorage Borough RAC, Ketchikan RAC, Lynn Canal-Icy Strait RAC, Prince of Wales Island RAC, Prince William Sound RAC, Sitka RAC, Wrangell-Petersburg RAC, Yakutat RAC

Dawn Heutte, Alaska Regional Coordinator, Forest Service, 709 West 9th Street, Room 559A, Juneau, Alaska 99801-1807, (907) 586-7836.

Equal opportunity practices in accordance with USDA policies shall be followed in all appointments to the Panel. To ensure that the recommendations of the Panel have taken into account the needs of the diverse groups served by USDA, membership will, to the extent practicable, include individuals with demonstrated ability to represent all racial and ethnic groups, women and men, and persons with disabilities.

Dated: May 3, 2016.
Gregory L. Parham,
Assistant Secretary for Administration.

[FR Doc. 2016-11165 Filed 5-11-16; 8:45 am]

BILLING CODE 3411-15-P